DEPARTMENT OF HOMELAND SECURITY

Transportation Security Administration

Intent To Request Approval From OMB of One New Public Collection of Information: Threat and Vulnerability Assessment for General Aviation Airports

AGENCY: Transportation Security Administration, DHS.

ACTION: Notice.

SUMMARY: The Transportation Security Administration (TSA) invites public comment on a new information collection requirement abstracted below that the agency will submit to the Office of Management and Budget (OMB) for approval in compliance with the Paperwork Reduction Act. The collection will include the submission of information pertaining to security concerns specific to each individual airport, as perceived by the airport operators of approximately 3,000 general aviation airports. The information collected is part of a program designed to perform a standardized threat and vulnerability assessment program for general aviation airports. The information collected will also be used to provide context for a feasibility study of the development of a program, based upon a risk-management approach, to provide grants to operators of general aviation airports for projects to upgrade security at such airports. A grant program will be established only if the Administrator determines that such a program is feasible based upon the information collected and additional research outside of the scope of this notice.

DATES: Send your comments by August 5, 2008.

ADDRESSES: Comments may be mailed or delivered to Joanna Johnson, Communications Branch, Business Management Office, Operational Process and Technology, TSA-32, Transportation Security Administration, 601 South 12th Street, Arlington, VA 22202-4220.

FOR FURTHER INFORMATION CONTACT: Joanna Johnson at the above address, or by telephone (571) 227-3651 or facsimile (703) 603-0822.

SUPPLEMENTARY INFORMATION:

Comments Invited

In accordance with the Paperwork Reduction Act of 1995 (44 U.S.C. 3501 et seq.), an agency may not conduct or sponsor, and a person is not required to respond to, a collection of information unless it displays a valid OMB control number. The Information Collection Requirement (ICR) documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Purpose of Data Collection

Section 1617(k)(1) of the Implementing Recommendations of the 9/11 Commission Act of 2007 (Pub. L. 110-53, 121 Stat. 266, 488, Aug. 3, 2007) requires that the TSA Administrator develop a standardized threat and vulnerability assessment program for general aviation airports and implement a program to perform such assessments on a risk-management basis at general aviation airports. To accomplish this task successfully, the collection of this information is essential. Section 1617(k)(2) requires the TSA Administrator to initiate and complete a study of the feasibility of a risk-managed program to provide grants to operator of general aviation airports for projects to upgrade security. The assessment data will also provide necessary background information and context for the feasibility study of the grant program.

Description of Data Collection

TSA seeks the collection of information regarding threat and vulnerability assessments from approximately 3,000 general aviation airports. The collection will consist of several elements: (1) A security self-assessment that the airport operators can perform on their airport using a set of guidelines provided by TSA (available to the public on the TSA Web site); (2) a short series of “yes” or “no” questions; and (3) a narrative field wherein responders can expand on matters of concern to them. The information TSA seeks should be readily available to the airport operators and should take no more than 20-30 minutes to collect and submit. Each airport operator will need to sign on to a Web site hosted by a private entity (2 minutes), complete the assessment (17-27 minutes) and submit the results (1 minute), for a total time burden of 20-30 minutes. Therefore, based on the total number of general aviation airport operators expected to participate and the approximate estimated time for each to complete and submit the survey questionnaire, the approximate total burden to the public should not exceed 1,500 hours (3,000 airport operators × 30 minutes).

Use of Results

TSA will use these results to assess vulnerabilities at any general aviation airport and recommend security measures to mitigate any significant threat or vulnerabilities. The assessment data could also be used in the implementation of a grant program, as described above, if such a program is determined needed and feasible.

Issued in Arlington, Virginia, on May 30, 2008.
Fran Lozito,
Director, Business Management Office, Operational Process and Technology.

[FR Doc. E8-12748 Filed 6-5-08; 8:45 am]

BILLING CODE 9110-05-P